DEPARTMENT OF ENERGY

Federal Energy Regulatory Commission

Notice of Declaration of Intention and Soliciting Comments, Motions To Intervene and Protests

November 17, 2003.

Take notice that the following application has been filed with the Commission and is available for public inspection:

a. Application Type: Declaration of Intention.

b. Docket No.: DI03-5-000.

c. Date Filed: September 5, 2003; amended October 16, 2003.

d. Applicant: Robert S. White.

e. Name of Project: White's Micro Hydro Project.

f. Location: The White's Micro Hydro Project is located on Sec. 19, Township 3 North, Range 15 East, on an unnamed stream near Centerville, Klickatat County, Washington. The proposed project will not occupy Federal Lands.

g. Filed pursuant to: 23(b)(1) of the Federal Power Act, 16 U.S.C. 817(b).

h. Applicant Contact: Robert S. White, 1752 Centerville Highway, Centerville, Washington 98613, telephone (509) 773-3830, cell (509) 250-0004, or e-mail address: puresnow@gorge.net.

i. FERC Contact: Any questions on this notice should be addressed to Etta L. Foster, (202) 502-8769, or e-mail address: etta.foster@ferc.gov.

j. Deadline for filing comments, protests and/or motions: December 19, 2003.

All documents (original and eight copies) should be filed with Magalie R. Salas, Secretary, Federal Energy Regulatory Commission, 888 First Street, NE., Washington, DC 20426. Comments, protests, and interventions may be filed electronically via the Internet in lieu of paper. Any questions, please contact the Secretary's Office. See 18 CFR 385.2001(a)(1)(iii) and the instructions on the Commission's Web site at http://www.ferc.gov. Please include the docket number (DI03-5-000) on any comments, protests or motions filed.

k. Description of Project: The White's Micro Hydro Project would consist of: (1) A 4-foot-high wooden dam; (2) a 4-inch-wide, 12-foot-long pipe for water intake; (3) a micro generator with a capacity of 48 Volts of direct current, and (4) appurtenant facilities. The main purpose of the dam is to create a pond for wildlife.

When a Declaration of Intention is filed with the Federal Energy Regulatory Commission, the Federal Power Act requires the Commission to investigate and determine if the interests of interstate or foreign commerce would be affected by the project. The Commission also determines whether or not the project: (1) Would be located on a navigable waterway; (2) would occupy or affect public lands or reservations of the United States; (3) would utilize surplus water or waterpower from a government dam; or (4) if applicable, has involved or would involve any construction subsequent to 1935 that may have increased or would increase the project's head or generating capacity, or have otherwise significantly modified the project's pre-1935 design or operation.

l. Location of the Application: Copies of this filing are on file with the Commission and are available for public inspection. This filing may be viewed on the Web at http://www.ferc.gov using the “e-Library” link. Select “Docket#” and follow the instructions. For assistance, please contact FERC Online Support at FERConlineSupport@ferc.gov or toll-free at (866) 208-3676, or TTY, (202) 502-8659.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, 385.211, 385.214. In determining the appropriate action to take, the Commission will consider all protests or other comments filed, but only those who file a motion to intervene in accordance with the Commission's Rules may become a party to the proceeding. Any comments, protests, or motions to intervene must be received on or before the specified comment date for the particular application.

o. Filing and Service of Responsive Documents: Any filings must bear in all capital letters the title “COMMENTS”, “PROTEST”, or “MOTION TO INTERVENE”, as applicable, and the Docket Number of the particular application to which the filing refers. A copy of any motion to intervene must also be served upon each representative of the Applicant specified in the particular application.

p. Agency Comments: Federal, State, and local agencies are invited to file comments on the described application. A copy of the application may be obtained by agencies directly from the Applicant. If an agency does not file comments within the time specified for filing comments, it will be presumed to have no comments. One copy of an agency's comments must also be sent to the Applicant's representatives.

Magalie R. Salas,
Secretary.

[FR Doc. E3-00366 Filed 11-21-03; 8:45 am]

BILLING CODE 6717-01-P